DEPARTMENT OF ENERGY

Federal Energy Regulatory Commission

Combined Notice of Filings #1

Take notice that the Commission received the following electric corporate filings:

Docket Numbers: EC21-82-000.

Applicants: ECP ControlCo, LLC.

Description: Application for Authorization Under Section 203 of the Federal Power Act of ECP ControlCo, LLC.

Filed Date: 4/27/21.

Accession Number: 20210427-5133.

Comments Due: 5 p.m. ET 5/18/21.

Take notice that the Commission received the following exempt wholesale generator filings:

Docket Numbers: EG21-134-000.

Applicants: Minco Wind Energy II, LLC.

Description: Notice of Self-Certification of Exempt Wholesale Generator Status of Minco Wind Energy II, LLC.

Filed Date: 4/27/21.

Accession Number: 20210427-5065.

Comments Due: 5 p.m. ET 5/18/21.

Take notice that the Commission received the following electric rate filings:

Docket Numbers: ER20-2700-001.

Applicants: Deuel Harvest Wind Energy LLC.

Description: Notice of Change in Status of Deuel Harvest Wind Energy LLC.

Filed Date: 4/26/21.

Accession Number: 20210426-5366.

Comments Due: 5 p.m. ET 5/17/21.

Docket Numbers: ER21-817-002.

Applicants: Midcontinent Independent System Operator, Inc.

Description: Tariff Amendment: 2021-04-27_SA 3616 Amendment to Deficiency Response (J1076 GIA) to be effective 3/8/2021.

Filed Date: 4/27/21.

Accession Number: 20210427-5170.

Comments Due: 5 p.m. ET 5/18/21.

Docket Numbers: ER21-820-001.

Applicants: Midcontinent Independent System Operator, Inc.

Description: Tariff Amendment: 2021-04-27_SA 3617 Amendment to Deficiency Response (MPFCA J1076 J1142 J1158) to be effective 3/8/2021.

Filed Date: 4/27/21.

Accession Number: 20210427-5192.

Comments Due: 5 p.m. ET 5/18/21.

Docket Numbers: ER21-1768-000.

Applicants: Light Power & Gas LLC.

Description: Baseline eTariff Filing: LPG MBR Tariff Filing to be effective 6/1/2021.

Filed Date: 4/27/21.

Accession Number: 20210427-5075.

Comments Due: 5 p.m. ET 5/18/21.

Docket Numbers: ER21-1769-000.

Applicants: American Electric Power Service Corporation, PJM Interconnection, L.L.C.

Description: § 205(d) Rate Filing: AEP submits Update to Attachment 1 of ILDSA, SA No. 1336 to be effective 4/1/2021.

Filed Date: 4/27/21.

Accession Number: 20210427-5139.

Comments Due: 5 p.m. ET 5/18/21.

Docket Numbers: ER21-1770-000.

Applicants: Arizona Public Service Company.

Description: Notice of Cancellation of Rate Schedule No. 61 of Arizona Public Service Company.

Filed Date: 4/27/21.

Accession Number: 20210427-5179.

Comments Due: 5 p.m. ET 5/18/21.

Docket Numbers: ER21-1771-000.

Applicants: Idaho Power Company.

Description: § 205(d) Rate Filing: SA 324 and SA 342—Revised Agreements to be effective 7/1/2021.

Filed Date: 4/27/21.

Accession Number: 20210427-5185.

Comments Due: 5 p.m. ET 5/18/21.

Docket Numbers: ER21-1772-000.

Applicants: PacifiCorp.

Description: § 205(d) Rate Filing: PAC-NVE MBR Amendments Filing to be effective 6/27/2021.

Filed Date: 4/27/21.

Accession Number: 20210427-5193.

Comments Due: 5 p.m. ET 5/18/21.

Docket Numbers: ER21-1773-000.

Applicants: PJM Interconnection, L.L.C.

Description: § 205(d) Rate Filing: Original WMPA, SA No. 6021; Queue No. AG1-064 to be effective 4/5/2021.

Filed Date: 4/27/21.

Accession Number: 20210427-5200.

Comments Due: 5 p.m. ET 5/18/21.

Docket Numbers: ER21-1774-000.

Applicants: Sierra Pacific Power Company.

Description: § 205(d) Rate Filing: Market-Based Rate Tariff Amendment Vol. 7 to be effective 6/27/2021.

Filed Date: 4/27/21.

Accession Number: 20210427-5204.

Comments Due: 5 p.m. ET 5/18/21.

Docket Numbers: ER21-1775-000.

Applicants: Nevada Power Company.

Description: § 205(d) Rate Filing: Market-Based Rate Tariff, Volume No. 11; Amendment to be effective 6/27/2021.

Filed Date: 4/27/21.

Accession Number: 20210427-5205.

Comments Due: 5 p.m. ET 5/18/21.

Docket Numbers: ER21-1776-000.

Applicants: Emmons-Logan Wind Interconnection, LLC.

Description: Tariff Cancellation: Emmons-Logan Interconnection Notice of Cancellation of TSA to be effective 4/28/2021.

Filed Date: 4/27/21.

Accession Number: 20210427-5213.

Comments Due: 5 p.m. ET 5/18/21.

Docket Numbers: ER21-1777-000.

Applicants: Lanyard Power Holdings, LLC.

Description: § 205(d) Rate Filing: Reactive Service Rate Schedule Filing for Deactivation of Chalk Point Units to be effective 6/1/2021.

Filed Date: 4/27/21.

Accession Number: 20210427-5227.

Comments Due: 5 p.m. ET 5/18/21.

Take notice that the Commission received the following electric securities filings:

Docket Numbers: ES21-40-000.

Applicants: MidAmerican Energy Company.

Description: Application under Section 204 of the Federal Power Act for Authorization to Issue Securities for MidAmerican Energy Company.

Filed Date: 4/27/21.

Accession Number: 20210427-5241.

Comments Due: 5 p.m. ET 5/18/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 27, 2021.
Kimberly D. Bose,
Secretary.

[FR Doc. 2021-09343 Filed 5-3-21; 8:45 am]

BILLING CODE 6717-01-P